DEPARTMENT OF HEALTH AND HUMAN SERVICES

National Institutes of Health

Notice of Public Meeting

AGENCY: National Institutes of Health, DHHS.

ACTION: Notice of public meeting.

SUMMARY: The National Institutes of Health (NIH) is announcing a public meeting to enable invited individuals, organizations, and other stakeholders to comment on the use of the government march-in authorities under 35 U.S.C. 203 for Norvir® (ritonavir) manufactured by Abbott Laboratories using inventive technologies developed with NIH funds.

Time and Date: The public meeting will be held on May 25, 2004 from 9 a.m. to 12 p.m.

Place: The public meeting will be held in the first-floor conference room, Building 50 (at the corner of Center and South Drives), National Institutes of Health, 9000 Rockville Pike, Bethesda, MD 20892. Parking will be limited and there may be delays entering the NIH campus due to increased security. We recommend arriving by Metro, if possible. NIH is accessible from the Metro's red line at the Medical Center/NIH stop.

FOR FURTHER INFORMATION CONTACT: Mary Martinez, Office of Technology Transfer, Office of the Director, National Institutes of Health, 6011 Executive Blvd, Suite 325, Rockville, MD 20852, e-mail: martinm1@mail.nih.gov

Registration and Participation: No registration is required to attend the public meeting. Seating will be on a first-come, first-serve basis.

Participation as a presenter is by invitation only. The agency will notify each invited speaker of the time allotted to the participant and the approximate time the participant's comments are scheduled to begin.

If you need special accommodations due to disability, please inform Mary Martinez, the contact person listed in this document.

Dated: April 22, 2004.
Mark L. Rohrbaugh,
Director, Office of Technology Transfer, National Institutes of Health.

[FR Doc. 04-9569 Filed 4-27-04; 8:45 am]

BILLING CODE 4140-01-P